DEPARTMENT OF COMMERCE

International Trade Administration

[C-122-868, C-560-834, C-552-826]

Utility Scale Wind Towers From Canada, Indonesia, and the Socialist Republic of Vietnam: Initiation of Countervailing Duty Investigations

AGENCY: Enforcement and Compliance, International Trade Administration, Department of Commerce.

DATES: Applicable July 29, 2019.

FOR FURTHER INFORMATION CONTACT: Tyler Weinhold at (202) 482-1121 (Canada); Alex Wood at (202) 482-1959 (Indonesia); Julie Geiger at (202) 482-2057 (Socialist Republic of Vietnam (Vietnam)), AD/CVD Operations, Enforcement and Compliance, International Trade Administration, U.S. Department of Commerce, 1401 Constitution Avenue NW, Washington, DC 20230.

SUPPLEMENTARY INFORMATION:

The Petitions

On July 9, 2019, the U.S. Department of Commerce (Commerce) received countervailing duty (CVD) petitions concerning imports of utility scale wind towers (wind towers) from Canada, Indonesia, and Vietnam, filed in proper form on behalf of the Wind Tower Trade Coalition (the petitioner).¹ The Petitions were accompanied by antidumping duty (AD) petitions concerning imports of wind towers from Canada, Indonesia, the Republic of Korea, and Vietnam.

¹ See Petitioner's Letter, “Petitions for the Imposition of Antidumping and Countervailing Duties on Utility Scale Wind Towers from Canada, Indonesia, The Republic of Korea, and the Socialist Republic of Vietnam,” dated July 9, 2019 (the Petitions).

During the period July 12 through 18, 2019, Commerce requested supplemental information pertaining to certain aspects of the Petitions in separate supplemental questionnaires.² The petitioner filed responses to the supplemental questionnaires between July 16 and 19, 2019.³

² See Commerce's Letters, “Petitions for the Imposition of Antidumping Duties on Imports of Utility Scale Wind Towers from Canada, Indonesia, the Republic of Korea, and the Socialist Republic of Vietnam and Countervailing Duties on Imports of Utility Scale Wind Towers from Canada, Indonesia, and the Socialist Republic of Vietnam: Supplemental Questions” (General Issues Supplemental Questionnaire), “Petition for the Imposition of Countervailing Duties on Imports of Utility Scale Wind Towers from Canada: Supplemental Questions,” “Petition for the Imposition of Countervailing Duties on Imports of Utility Scale Wind Towers from Indonesia: Supplemental Questions,” and “Petition for the Imposition of Countervailing Duties on Imports of Utility Scale Wind Towers from the Socialist Republic of Vietnam: Supplemental Questions,” dated July 12, 2019; see also Memorandum, “Phone Call with Counsel to the Petitioner,” dated July 18, 2019 (July 18, 2019 Memorandum).

³ See Petitioner's Letters, “Utility Scale Wind Towers from Canada, Indonesia, the Republic of Korea, and the Socialist Republic of Vietnam: Responses to First Supplemental Questions on Common Issues and Injury Volume I of the Petition,” dated July 16, 2019 (General Issues Supplemental); “Utility Scale Wind Towers from Canada: Response to First Supplemental Questions on Canada CVD Volume III {sic} of the Petition,” (Canada CVD Supplement Response), “Utility Scale Wind Towers from {Indonesia}: Response to First Supplemental Questions on Indonesia CVD Volume VII of the Petition,” (Indonesia CVD Supplement Response), and “Utility Scale Wind Towers from the Socialist Republic of Vietnam: Response to First Supplemental Questions on Vietnam CVD Volume VIII of the Petition” (Vietnam CVD Supplement Response), each dated July 17, 2019; and, “Utility Scale Wind Towers from Canada, Indonesia, the Republic of Korea, and the Socialist Republic of Vietnam: Responses to Second Supplemental Questions on Common Issues and Injury Volume I of the Petition,” dated July 19, 2019 (Scope Supplement).

In accordance with section 702(b)(1) of the Tariff Act of 1930, as amended (the Act), the petitioner alleges that the Governments of Canada, Indonesia, and Vietnam (GOC, GOI, and GOV, respectively) are providing countervailable subsidies, within the meaning of sections 701 and 771(5) of the Act, to producers of wind towers in Canada, Indonesia and Vietnam, and that imports of such products are materially injuring, or threatening material injury to, the domestic wind tower industry in the United States. Consistent with section 702(b)(1) of the Act and 19 CFR 351.202(b), for those alleged programs on which we are initiating CVD investigations, the Petitions are accompanied by information reasonably available to the petitioner supporting its allegations.

Commerce finds that the petitioner filed the Petitions on behalf of the domestic industry, because the petitioner is an interested party, as defined in section 771(9)(E) of the Act. Commerce also finds that the petitioner demonstrated sufficient industry support necessary for the initiation of the requested CVD investigations.⁴

⁴ See the “Determination of Industry Support for the Petition” section, infra.

Period of Investigations

Because the Petitions were filed on July 9, 2019, the period of investigation is January 1, 2018 through December 31, 2018.

Scope of the Investigations

The product covered by these investigations is wind towers from Canada, Indonesia, and Vietnam. For a full description of the scope of these investigations, see the Appendix to this notice.

Scope Comments

During our review of the Petitions, we contacted the petitioner regarding the proposed scope to ensure that the scope language in the Petitions is an accurate reflection of the products for which the domestic industry is seeking relief.⁵ As a result, the scope of the Petitions was modified to clarify the description of merchandise covered by the Petitions. The description of the merchandise covered by these investigations, as described in the Appendix to this notice, reflects these clarifications.

⁵ See General Issues Supplement; and July 18, 2019 Memorandum.

As discussed in the Preamble to Commerce's regulations, we are setting aside a period for interested parties to raise issues regarding product coverage (i.e., scope).⁶ Commerce will consider all comments received from interested parties and, if necessary, will consult with interested parties prior to the issuance of the preliminary determination. If scope comments include factual information,⁷ all such factual information should be limited to public information. To facilitate preparation of its questionnaires, Commerce requests that all interested parties submit such comments by 5:00 p.m. Eastern Time (ET) on August 19, 2019, which is 20 calendar days from the signature date of this notice.⁸ Any rebuttal comments, which may include factual information, must be filed by 5:00 p.m. ET on August 29, 2019 which is 10 calendar days from the initial comment deadline.⁹

⁶ See Antidumping Duties; Countervailing Duties, Final Rule, 62 FR 27296, 27323 (May 19, 1997) (Preamble).

⁷ See 19 CFR 351.102(b) (21) (defining “factual information”).

⁸ Because the deadline falls on a Sunday (i.e., August 18, 2019), the deadline becomes the next business day (i.e., August 19, 2019).

⁹ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS).¹⁰ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁰ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the GOC, GOI, and GOV of the receipt of the Petitions and provided them the opportunity for consultations with respect to the Petitions.¹¹ Consultations were held with the GOC and GOV on July 19, 2019,¹² and with the GOI on July 22, 2019.¹³

¹¹ See Commerce's Letters, “Utility Scale Wind Towers from Indonesia: Invitation for Consultations to Discuss the Countervailing Duty Petition,” and “Utility Scale Wind Towers from the Socialist Republic of Vietnam: Invitation for Consultations to Discuss the Countervailing Duty Petition,” each dated July 10, 2019; and “Utility Scale Wind Towers from Canada: Invitation for Consultations to Discuss the Countervailing Duty Petition,” dated July 12, 2019.

¹² See Memoranda, “Consultations with Government Officials from the Government of Canada on the Countervailing Duty Petition Regarding Utility Scale Wind Towers from Canada,” dated July 24, 2019, and “Consultations with Government Officials from the Government of the Socialist Republic of Vietnam on the Countervailing Duty Petition Regarding Utility Scale Wind Towers from the Socialist Republic of Vietnam,” dated July 22, 2019.

¹³ See Memorandum, “Utility Scale Wind Towers from Canada, Indonesia, and the Socialist Republic of Vietnam: Government of Indonesia Consultations,” dated July 22, 2019.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Federal Circuit 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the Petitions.¹⁶ Based on our analysis of the information submitted on the record, we have determined that wind towers, as defined in the scope, constitute a single domestic like product, and we have analyzed industry support in terms of that domestic like product.¹⁷

¹⁶ See Volume I of the Petitions, at 17-18 and Exhibits I-9 and I-14.

¹⁷ For a discussion of the domestic like product analysis as applied to this case and information regarding industry support, see Countervailing Duty Investigation Initiation Checklist: Utility Scale Wind Towers from Canada (Canada CVD Initiation Checklist), at Attachment II, Analysis of Industry Support for the Antidumping and Countervailing Duty Petitions Covering Utility Scale Wind Towers from Canada, Indonesia, the Republic of Korea, and the Socialist Republic of Vietnam (Attachment II); see also Countervailing Duty Investigation Initiation Checklist: Utility Scale Wind Towers from Indonesia (Indonesia CVD Initiation Checklist), at Attachment II; and Countervailing Duty Investigation Initiation Checklist: Utility Scale Wind Towers from the Socialist Republic of Vietnam (Vietnam CVD Initiation Checklist), at Attachment II. These checklists are dated concurrently with this notice and on file electronically via ACCESS. Access to documents filed via ACCESS is also available in the Central Records Unit, Room B8024 of the main Department of Commerce building.

On July 26, 2019, we received industry support challenges from Marmen Energy Co. (Marmen) and Vestas Towers America, Inc. (Vestas), U.S. producers of wind towers.¹⁸ On July 29, 2019, the petitioner responded to the standing challenges from Marmen and Vestas.¹⁹ Based on information provided in the Petitions and in the letters from Marmen and Vestas, the share of total U.S. production of the domestic like product in calendar year 2018 represented by the supporters of the Petitions did not account for more than 50 percent of the total production of the domestic like product. Therefore, in accordance with section 702(c)(4)(D) of the Act, we relied on other information to determine industry support.²⁰

¹⁸ See letter from Marmen, “Utility Scale Wind Towers from Canada, Indonesia, the Republic of Korea, and the Socialist Republic of Vietnam: Standing Challenge,” dated July 26, 2019 (Marmen Letter); see also letter from Vestas, “Utility Scale Wind Towers from Canada, Indonesia, South Korea, and Vietnam: Vestas Towers America, Inc.'s Comments on Industry Support,” dated July 26, 2019 (Vestas Letter).

¹⁹ See letter from the petitioner, “Utility Scale Wind Towers from Canada, Indonesia, the Republic of Korea, and the Socialist Republic of Vietnam: Response to Standing Challenge and Comments on Industry Support,” dated July 29, 2019 (Petitioner Letter).

²⁰ For further discussion, see Canada AD Initiation Checklist, at Attachment II; see also Indonesia AD Initiation Checklist, at Attachment II; Korea AD Initiation Checklist, at Attachment II; and Vietnam AD Initiation Checklist, at Attachment II.

In determining whether the petitioner has standing under sections 702(c)(4)(A) and 702(c)(4)(D) of the Act, we considered the industry support data contained in the Petitions and other information on the record with reference to the domestic like product as defined in the “Scope of the Investigations,” in the Appendix to this notice. To establish industry support, the petitioner provided its own 2018 production of the domestic like product as well as the 2018 production by the supporters of the Petitions. Other information on the record establishes the total 2018 production of other U.S. producers of the domestic like product.

Section 702(c)(4)(B) of the Act states that (i) Commerce “shall disregard the position of domestic producers who oppose the petition if such producers are related to foreign producers, as defined in section 771(4)(B)(ii), unless such domestic producers demonstrate that their interests as domestic producers would be adversely affected by the imposition of an antidumping duty order;” and (ii) Commerce “may disregard the position of domestic producers of a domestic like product who are importers of the subject merchandise.” In addition, 19 CFR 351.203(e)(4) states that the position of a domestic producer that opposes the petition (i) will be disregarded if such producer is related to a foreign producer or to a foreign exporter under section 771(4)(B)(ii) of the Act, unless such domestic producer demonstrates to the Secretary's satisfaction that its interests as a domestic producer would be adversely affected by the imposition of an antidumping order; and (ii) may be disregarded if the producer is an importer of the subject merchandise or is related to such an importer under section 771(4)(B)(ii) of the Act. Certain producers of the domestic like product that opposed the Petitions are related to foreign producers and/or imported subject merchandise from the subject countries. We have analyzed the information provided by the petitioner and information provided in the submissions from Marmen and Vestas. Based on our analysis, we have determined that it is appropriate to disregard the opposition to the Petitions from certain producer(s) pursuant to section 702(c)(4)(B) of the Act. When the opposition to the Petitions is disregarded, the industry support requirements of section 702(c)(4)(A) of the Act are satisfied.²¹

²¹ See Canada AD Initiation Checklist, at Attachment II; see also Indonesia AD Initiation Checklist, at Attachment II; Korea AD Initiation Checklist, at Attachment II; and Vietnam AD Initiation Checklist, at Attachment II.

Based on our analysis and review of the information on the record, we have determined that the petitioner has established industry support for the Petitions.²² The information on the record demonstrates that the domestic producers of wind towers who support the Petitions account for at least 25 percent of the total production of the domestic like product and, once certain opposition is disregarded, account for more than 50 percent of the production of the domestic like product produced by that portion of the industry expressing support for, or opposition to, the Petitions.²³ Accordingly, Commerce determines that the Petitions were filed on behalf of the domestic industry within the meaning of section 702(b)(1) of the Act.

²² See Canada CVD Initiation Checklist, at Attachment II; see also Indonesia CVD Initiation Checklist, at Attachment II; and Vietnam CVD Initiation Checklist, at Attachment II.

²³ See Canada AD Initiation Checklist, at Attachment II; see also Indonesia AD Initiation Checklist, at Attachment II; Korea AD Initiation Checklist, at Attachment II; and Vietnam AD Initiation Checklist, at Attachment II.

Injury Test

Because Canada, Indonesia, and Vietnam are “Subsidies Agreement Countries” within the meaning of section 701(b) of the Act, section 701(a)(2) of the Act applies to these investigations. Accordingly, the ITC must determine whether imports of the subject merchandise from Canada, Indonesia, and/or Vietnam materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports from Canada, Indonesia, and Vietnam exceed the negligibility threshold provided for under section 771(24)(A) of the Act.²⁴ In CVD petitions, section 771(24)(B) of the Act provides that imports of subject merchandise from developing and least developed countries must exceed the negligibility threshold of four percent. The petitioner also demonstrates that subject imports from Indonesia, which has been designated as a least developed country under section 771(36)(B) of the Act, exceed the negligibility threshold of four percent.²⁵

²⁴ See Volume I of the Petitions, at 31-32 and Exhibit I-17.

²⁵ Id.

The petitioner contends that the industry's injured condition is illustrated by a significant and increasing volume of subject imports; reduced market share; lost sales and lost revenues; underselling and price depression or suppression; negative impact on the domestic industry's production, shipments, capacity utilization, and employment; and declining financial performance.²⁶ We have assessed the allegations and supporting evidence regarding material injury, threat of material injury, causation, cumulation, as well as negligibility, and we have determined that these allegations are properly supported by adequate evidence, and meet the statutory requirements for initiation.²⁷

²⁶ Id. at 15-16, 20-48 and Exhibits I-4, I-6, I-8, I-9, I-14, I-17 and I-19 through I-28.

²⁷ See Canada CVD Initiation Checklist, at Attachment III, Analysis of Allegations and Evidence of Material Injury and Causation for the Antidumping and Countervailing Duty Petitions Covering Utility Scale Wind Towers from Canada, Indonesia, the Republic of Korea, and the Socialist Republic of Vietnam (Attachment III); see also Indonesia CVD Initiation Checklist, at Attachment III; and Vietnam CVD Initiation Checklist, at Attachment III.

Initiation of CVD Investigations

Based upon the examination of the Petitions and supplemental responses, we find that they meet the requirements of section 702 of the Act. Therefore, we are initiating CVD investigations to determine whether imports of wind towers from Canada, Indonesia, and Vietnam benefit from countervailable subsidies conferred by the GOC, GOI, and GOV, respectively. In accordance with section 703(b)(1) of the Act and 19 CFR 351.205(b)(1), unless postponed, we will make our preliminary determination no later than 65 days after the date of this initiation.

Canada

Based on our review of the petition, we find that there is sufficient information to initiate a CVD investigation on 23 of the 30 alleged programs. For a full discussion of the basis for our decision whether to initiate on each program, see Canada CVD Initiation Checklist. A public version of the initiation checklist for this investigation is available on ACCESS.

Indonesia

Based on our review of the petition, we find that there is sufficient information to initiate a CVD investigation on seven of the eight alleged programs. For a full discussion of the basis for our decision whether to initiate on each program, see Indonesia CVD Initiation Checklist. A public version of the initiation checklist for this investigation is available on ACCESS.

Vietnam

Based on our review of the petition, we find that there is sufficient information to initiate a CVD investigation, in whole or part, on each of the alleged programs. For a full discussion of the basis for our decision to initiate on each program, see Vietnam CVD Initiation Checklist. A public version of the initiation checklist for this investigation is available on ACCESS.

Respondent Selection

The petitioner named four companies in Canada, two companies in Indonesia, and three companies in Vietnam as producers/exporters of wind towers.²⁸ Commerce intends to follow its standard practice in CVD investigations and calculate company-specific subsidy rates in these investigations. In the event Commerce determines that the number of companies is large and it cannot individually examine each company based upon Commerce's resources, where appropriate, Commerce intends to select mandatory respondents based on U.S. Customs and Border Protection (CBP) data for U.S. imports of wind towers from Canada, Indonesia, and Vietnam during the POI under the appropriate Harmonized Tariff Schedule of the United States numbers listed in the “Scope of the Investigation,” in the Appendix.

²⁸ See Volume I of the Petitions at Exhibit I-16.

On July 22, 2019, Commerce released CBP data on imports of wind towers under Administrative Protective Order (APO) to all parties with access to information protected by APO.²⁹ Interested parties wishing to comment regarding the CBP data and respondent selection must do so within three business days of the publication date of the notice of initiation of these CVD investigations. Commerce will not accept rebuttal comments regarding the CBP data or respondent selection.

²⁹ See Commerce's Letters, “Utility Scale Wind Towers from Canada Countervailing Duty Petition: Release of Customs Data from U.S. Customs and Border Protection” dated July 22, 2019 (Canada CBP Data Release Letter); “Utility Scale Wind Towers from Indonesia Countervailing Duty Petition: Release of Customs Data from U.S. Customs and Border Protection” dated July 22, 2019 (Indonesia CBP Data Release Letter); and “Utility Scale Wind Towers from the Socialist Republic of Vietnam Countervailing Duty Petition: Release of Customs Data from U.S. Customs and Border Protection” dated July 22, 2019 (Vietnam CBP Data Release Letter).

On July 22, 2019, Commerce also released CBP data on imports of wind towers from Indonesia under APO to all parties with access to information protected by APO.³⁰ Although the petitioner claims that there are two known producers/exporters from Indonesia, record evidence indicates that there is one known producer/exporter, PT Kenertec Power System (Kenertec). Based on this evidence, Commerce intends to examine Kenertec. Parties wishing to comment on Commerce's decision to individually examine Kenertec must do so within three days of the publication of this notice. Any such comments must be submitted no later than 5:00 p.m. ET on the due date and must be filed electronically via ACCESS.

³⁰ See Indonesia CBP Data Release Letter.

The CBP data identified two companies as producers/exporters of wind towers in Vietnam: CS Wind Tower Co Ltd (CS Wind Tower) and Metacor Vietnam Co., Ltd (Metacor Vietnam).³¹ Accordingly, Commerce intends to examine the two producers/exporters identified in the CBP data. Parties wishing to comment on the selection of CS Wind Tower and Metacor Vietnam as mandatory respondents must do so within three days of the publication of this notice. Any such comments must be submitted no later than 5:00 p.m. ET on the due date and must be filed electronically via ACCESS.

³¹ See Vietnam CBP Data Release Letter.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petitions

In accordance with section 702(b)(4)(A)(i) of the Act and 19 CFR 351.202(f), copies of the public version of the Petitions have been provided to the GOC, GOI, and GOV via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of wind towers from Canada, Indonesia, and Vietnam are materially injuring, or threatening material injury to, a U.S. industry.³² A negative ITC determination in any country will result in the investigations being terminated with respect to that country.³³ Otherwise, these investigations will proceed according to statutory and regulatory time limits.

³² See section 703(a)(2) of the Act.

³³ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ³⁴ and, if the information is submitted to rebut, clarify, or correct factual information already on the record, to provide an explanation identifying the information already on the record that the factual information seeks to rebut, clarify, or correct.³⁵ Time limits for the submission of factual information are addressed in 19 CFR 351.301, which provides specific time limits based on the type of factual information being submitted. Interested parties should review the regulations prior to submitting factual information in these investigations.

³⁴ See 19 CFR 351.301(b).

³⁵ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁶ Parties must use the certification formats provided in 19 CFR 351.303(g).³⁷ Commerce intends to reject factual submissions if the submitting party does not comply with the applicable certification requirements.

³⁶ See section 782(b) of the Act.

³⁷ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act and 19 CFR 351.203(c).

Dated: July 29, 2019.
Jeffrey I. Kessler,
Assistant Secretary for Enforcement and Compliance.

Appendix

Scope of the Investigations

The merchandise covered by these investigations consists of certain wind towers, whether or not tapered, and sections thereof. Certain wind towers support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof, unless those components are shipped with the tower sections.

Further, excluded from the scope of the antidumping duty investigations are any products covered by the existing antidumping duty order on utility scale wind towers from the Socialist Republic of Vietnam. See Utility Scale Wind Towers from the Socialist Republic of Vietnam: Amended Final Determination of Sales at Less Than Fair Value and Antidumping Duty Order, 78 FR 11150 (February 15, 2013).

Merchandise covered by these investigations is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of the investigations is dispositive.

[FR Doc. 2019-16887 Filed 8-5-19; 8:45 am]

BILLING CODE 3510-DS-P